FEDERAL COMMUNICATIONS COMMISSION

Privacy Act System of Records

AGENCY: Federal Communications Commission.

ACTION: Notice; correction.

SUMMARY: The Federal Communications Commission is correcting an error that appeared in the Federal Register on August 19, 2011. The document gave notice of a new, consolidated system of records, FCC/OMD-28, “Time and Attendance Records,” in the Federal Register in which the numbering of the system of records was incorrectly identified as FCC/OMD-14. The correct numbering of the system is FCC/OMD-28. This document corrects the error.

DATES: Effective September 7, 2011.

FOR FURTHER INFORMATION CONTACT: Leslie F. Smith, Performance Evaluation and Records Management (PERM), Room 1-C216, Federal Communications Commission (FCC), 445 12th Street, SW., Washington, DC 20554, (202) 418-0217, or via the Internet at Leslie.Smith@fcc.gov.

SUPPLEMENTARY INFORMATION: The Federal Communications Commission published a document in the Federal Register on August 19, 2011, 76 FR 51975, which incorrectly identified the numbering of a new system of records. In the Notice FR Doc. 2011-21246 published August 19, 2011, 76 FR 51975 make the following correction:

On page 51975, in the third column, above the SYSTEM NAME, the numbering of the system of records is corrected to read FCC/OMD-28.

Federal Communications Commission.
Bulah P. Wheeler,
Deputy Manager, Office of the Secretary, Office of Managing Director.

[FR Doc. 2011-22832 Filed 9-6-11; 8:45 am]

BILLING CODE 6712-01-P